SMALL BUSINESS ADMINISTRATION

[Disaster Declaration #13662]

Colorado Disaster #CO-00058 Declaration of Economic Injury

AGENCY: Small Business Administration.

ACTION: Amendment 1.

SUMMARY: This is an amendment of the Economic Injury Disaster Loan (EIDL) declaration for the State of Colorado, dated 09/12/2013.

Incident: West Fork Fire Complex.

Incident Period: 06/05/2013 through 09/05/2013.

Effective Date: 09/13/2013.

EIDL Loan Application Deadline Date: 04/15/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Economic Injury declaration for the State of Colorado dated 07/15/2013, is hereby amended to establish the incident period for this disaster as beginning 06/05/2013 and continuing through 09/05/2013.

All other information in the original declaration remains unchanged.

(Catalog of Federal Domestic Assistance Number 59002)

Dated: September 13, 2013.
Jeanne Hulit,
Acting Administrator.

[FR Doc. 2013-22915 Filed 9-19-13; 8:45 am]

BILLING CODE 8025-01-P